DEPARTMENT OF ENERGY

Federal Energy Regulatory Commission

18 CFR Part 341

[Docket No. RM12-15-000; Order No. 780]

Filing, Indexing, and Service Requirements for Oil Pipelines

AGENCY: Federal Energy Regulatory Commission, DOE.

ACTION: Final rule.

SUMMARY: The Federal Energy Regulatory Commission is amending its regulations under the Interstate Commerce Act to update its regulations governing the form, composition and filing of rates and charges by interstate oil pipelines for transportation in interstate commerce. This final rule is a part of the Commission's ongoing effort to review its filing and reporting requirements and reduce unnecessary burdens by eliminating the collection of data that are not necessary to the performance of the Commission's regulatory responsibilities.

DATES: This rule will become effective June 28, 2013.

FOR FURTHER INFORMATION CONTACT:

Aaron Kahn (Technical Issues), 888 First Street NE., Washington, DC 20426, (202) 502-8339, aaron.kahn@ferc.gov.

Michelle A. Davis (Legal Issues), 888 First Street NE., Washington, DC 20426, (202) 502-8687, michelle.davis2@ferc.gov.

143 FERC ¶ 61,137

Before Commissioners: Jon Wellinghoff, Chairman; Philip D. Moeller, John R. Norris, Cheryl A. LaFleur, and Tony Clark.

Final Rule

(Issued May 16, 2013)

I. Introduction

1. The Federal Energy Regulatory Commission (Commission or FERC) is amending part 341 of its regulations to rewrite, remove, and update its regulations governing the form, composition and filing of rates and charges by interstate oil pipelines for transportation in interstate commerce.¹ These modifications are part of the Commission's ongoing effort to review its filing and reporting requirements and reduce unnecessary burdens by eliminating the collection of data that are not necessary to the performance of the Commission's regulatory responsibilities.

¹ 18 CFR Part 341 (2012).

II. Background

2. Section 6 of the Interstate Commerce Act (ICA) requires each interstate oil pipeline to file rates, fares, and charges for transportation on its system, and also to file copies of contracts with other common carriers for such traffic. Similarly, section 20 of the ICA requires annual or special reports from carriers subject to the ICA collected by the Commission.² These requirements are reflected in 18 CFR Parts 341 and 357 of the Commission's regulations.³

² See 49 U.S.C. app. 6 and 20 (1988).

³ See also 18 CFR parts 341 and 357 (2012) (implementing the filing and reporting requirements of sections 6 and 20 of the ICA).

3. In 2008, the Commission adopted Order No. 714, which required that all tariffs and tariff revisions and rate change applications for oil pipelines and other Commission-regulated entities be filed electronically according to a set of standards developed in conjunction with the North American Energy Standards Board.⁴ Consequently, since April 1, 2010, all tariff filings with the Commission are made electronically.⁵

⁴ Electronic Tariff Filings, Order No. 714, FERC Stats. & Regs. ¶ 31,276 (2008).

⁵ Id. P 104.

4. On October 12, 2012, consistent with the Commission's goal to streamline its procedures to eliminate unnecessary regulatory obligations, the Commission proposed modifying Part 341 of its regulations.⁶

⁶ Filing, Indexing, and Service Requirements, Notice of Proposed Rulemaking, 77 FR 65513 (Oct. 29, 2012), FERC Stats. & Regs. ¶ 32,694 (2012) FERC Stats. & Regs. ¶ 32,694 (2012) (NOPR).

III. NOPR Comments

5. Airlines for America (A4A),⁷ the National Propane Gas Association (NPGA),⁸ Valero Marketing and Supply Company (Valero), and the Association of Oil Pipelines (AOPL) ⁹ filed comments in response to the Commission's NOPR. AOPL filed reply comments. AOPL's reply comments will not be specifically addressed below because they relate to issues raised by other commenters that are beyond the scope of this proceeding.

⁷ A4A is an airline trade association whose members account for more than 90 percent of the passenger and cargo traffic carried by U.S. airlines.

⁸ NPGA is a trade association of the U.S. propane industry with a membership of about 3,000 companies, including 38 affiliated state and regional associations representing members in all 50 states.

⁹ AOPL is a trade association that represents the interests of common carrier oil pipelines. AOPL's members transport almost 85 percent of the crude oil and refined petroleum products shipped through pipelines in the U.S.

6. All the commenters generally support the proposed rulemaking and the Commission's efforts to eliminate unnecessary oil pipeline filings and to update the service and posting requirements. AOPL, NPGA and Valero agree with the proposals to streamline the processing of rate and other filings. NPGA believes the changes will help improve communications between pipelines and shippers and other interested parties.

7. Nonetheless, several commenters seek clarification on various proposed regulations. Others seek to expand the scope of the proceeding to include changes outside the scope of the proposed rulemaking. The comments are addressed below.

IV. Discussion

A. Posting Requirements

1. Eliminating Paper Posting

a. NOPR

8. On October 12, 2012, consistent with the Commission's goal to streamline its procedures to eliminate unnecessary regulatory obligations, the Commission proposed eliminating the paper posting requirements of sections 341.0(a)(7), 341.3(c), and 341.7 of its regulations.¹⁰

¹⁰ Section 341.0(a)(7) provides that pipelines must post their tariffs by making them available at offices of the carrier, or on the Internet. Section 341.3(c) lays out the requirements for “loose-leaf tariffs,” i.e., paper tariffs. Section 341.7 provides that pipelines must maintain their concurrences at their offices.

9. The Commission proposed revising section 341.0(a)(7) to eliminate the requirement that oil pipelines make their tariffs “available . . . for public inspection . . . at the carrier's principal office and other offices of the carrier where business is conducted. . . .” Instead, consistent with the requirements for public utilities and interstate natural gas pipelines, the Commission proposed mandating that each oil pipeline post its currently effective, pending and suspended tariffs on its public Web site(s).¹¹ The Commission also proposed revising section 341.7 of its regulations to eliminate the requirement that “[c]oncurrences must be maintained at carriers' offices” in paper form. In conjunction with these changes, the Commission proposed updating section 341.3 of its regulations by removing subsection 341.3(c), which references “loose-leaf tariffs,” as loose-leaf tariffs would no longer exist under the proposal. The Commission concluded that its proposals would reduce the burden on interstate oil pipelines while increasing the ease of accessing oil pipeline tariffs for shippers, the public, and possibly the oil pipelines themselves.

¹¹ The terms of “effective,” “pending,” and “suspended” are those used by Order No. 714 and eTariff, and for this document. The equivalent terms in 18 CFR 341.0(b)(4) (2012) are “current,” “proposed,” and “suspended,” respectively.

b. Comments

10. As noted, the Commission proposed to modify section 341.0(a)(7) to require each oil pipeline to electronically post its currently effective, pending and suspended tariffs on their public Web sites and eliminate references to making the tariffs available at the carrier's place of business. The electronic posting proposal elicited the most comments with commenters suggesting modifications and additional changes.

11. AOPL recommended two modifications. First, AOPL requests the Commission eliminate the requirement to post pending or proposed tariffs on a public Web site.¹² AOPL argues that posting pending tariffs is unnecessary because oil pipelines should exclusively post current tariffs since shippers can access information on pending tariffs through eTariff or eLibrary. AOPL also complains that public utilities and interstate natural gas pipelines are not obligated to post pending or proposed tariffs.¹³

¹² AOPL Comments at 3.

¹³ Id. at 4.

12. AOPL then requests the Commission eliminate the proposed requirement to post suspended tariff filings unless the suspended filing is subject to the maximum seven-month suspension period under the ICA. AOPL rationalizes that suspended tariff filings will be served on all interested parties in accordance with section 341.2(a) of the Commission's regulations and that posting suspended tariffs may cause confusion because tariffs are often only suspended for a nominal period.¹⁴

¹⁴ Id. (citing 18 CFR 431.2(a)).

13. AOPL also asks for 30 days from the date the Commission issues an order approving or suspending a tariff for an oil pipeline to post an update of that tariff record on its public Web site. AOPL contends 30 days are necessary for an oil pipeline to coordinate with information technology staff to post a tariff, but would still allow entities to access the tariff in a timely manner.

c. Commission Decision

14. The Commission adopts, with a minor modification, the NOPR proposal to modify section 341.0(a)(7) to require each oil pipeline to electronically post its currently effective, pending and suspended tariffs on its public Web sites and eliminate references to making the tariffs available at the carrier's place of business. While the Commission will retain the requirement to post all currently effective, pending and suspended tariffs, as discussed below section 341.0(a)(7) will not require an oil pipeline to post tariffs that are suspended for a nominal period.

15. The Commission rejects AOPL's request to strike the word “proposed” from revised section 341.0(a)(7). The Commission does not adopt AOPL's suggestion to eliminate the requirement to post pending or suspended tariff records because oil pipelines already have an obligation to post effective, pending and suspended tariffs under the Commission's current regulations.¹⁵ The changes adopted in this final rule are not intended to modify this existing substantive requirement. Rather, they were intended to reduce the burden on interstate oil pipelines of compliance with Commission regulations while increasing the ease of accessing oil pipeline tariffs for shippers, the public, and possibly the oil pipelines themselves.

¹⁵ 18 CFR 341.0(b)(4) (2012).

16. Although proposed tariff changes are available through eLibrary or the Commission' eTariff Public Viewer,¹⁶ the Commission notes that proposed tariffs are not substitutes for the actual tariffs in effect and applicable to shippers on a given day. Thus, an oil pipeline must post the currently effective tariff and shippers should be able to view such posting as well as any proposed or suspended tariffs going into effect. This final rule does not change this requirement. Additionally, although proposed tariffs are available through eLibrary or eTarriff, shippers and other interested parties inexperienced with accessing information from the Commission's Web site will benefit from oil pipelines posting tariffs on their public Web sites.

¹⁶ The Commission's eTariff Public Viewer may be found via the following link: http://etariff.ferc.gov/TariffList.aspx.

17. The Commission agrees with AOPL, as a practical matter, that it could be cumbersome and uninformative to post tariff records that are suspended for only a nominal period because minimally suspended tariffs could move from a pending status to a suspended status to an effective status on the same date. Accordingly, the Commission will eliminate the posting requirements for tariffs suspended for only a nominal period. However, the Commission notes oil pipelines are still required by section 341.0(b)(4) to identify any tariff records that remain in a suspended status. To the extent that AOPL is arguing for not posting tariff records that are suspended for periods longer than a minimal period, the Commission does not agree with such a proposed change.

18. The Commission notes that a notation of “suspended” designation is one of many ways an oil pipeline could denote a suspended tariff record. The Commission is not mandating any specific way to mark the status of effective, pending or suspended tariff records as long as the method used is reasonably clear.

19. The Commission rejects AOPL's suggestion that oil pipelines be given 30 days from the date the Commission issues an order approving or suspending a tariff for an oil pipeline to post an update of that tariff record on its public Web site. Section 341.0(b)(4), which the Commission does not propose to change in this proceeding, does not provide any timeline for when tariffs are to be updated. Oil pipelines are required by the ICA to post and keep open for public inspection their tariffs for all transportation services they provide.¹⁷ Shippers should reasonably expect that, when they view an oil pipeline's tariff, they will find the rates, terms and conditions applicable to the transportation service they are interested in or for which they are receiving transportation service. AOPL did not identify any reason as to why maintenance of an electronic tariff cannot meet the timing standards currently met for paper tariffs.

¹⁷ 49 U.S.C. app. 6(1).

2. Service of Filings

a. NOPR

20. The Commission also proposed revising section 341.2(a) of its regulations to be more consistent with section 385.2010 of its regulations by eliminating an oil pipeline's option to “serve tariff publications and justifications to each shipper and subscriber” by paper.¹⁸ Section 385.2010(f)(2) currently provides that, subject to certain limitations and exceptions, “service of any document in proceedings commenced on or after March 21, 2005, must be made by electronic means. . . .” ¹⁹ The Commission's proposed change will create a uniform service requirement for all Commission-regulated entities and eliminate any ambiguity regarding the Commission's preferred mode of service. Moreover, the Commission's proposal will reduce the burden on interstate oil pipelines while increasing the ease of tracking document filing activity and potentially reducing mailing and courier fees.

¹⁸ The Commission recognizes that the NOPR could be read to indicate that only service by paper is currently provided for in section 341.2(a). See NOPR at P 7. However, section 341.2(a) of the Commission's regulations allowed for service either electronically or by paper, so while existing section 341.2(a) provides for electronic or paper service, the proposal was to remove the option of paper service and require, consistent with Order No. 714, exclusively electronic service.

¹⁹ 18 CFR 385.2010(f)(2) (2012).

b. Comments

21. A4A asks the Commission to specify the methods of service that will be allowed under the amended section 341.2(a) of its regulations. A4A believes that section 385.2010 is confusing as it is focused on service in existing proceedings. A4A suggests citing section 385.2010(f) of the Commission's regulations instead of the more generic section 385.2010. A4A also requests that the Commission require carriers to serve all filings or orders that affect rates, terms, or conditions on shippers in accordance with the requirements of revised section 341.2(a).²⁰

²⁰ A4A Comments at 4.

22. AOPL supports referencing section 385.2010(f)(2) in proposed section 341.2(a).²¹ AOPL believes that reference will help clarify the service requirements for tariff filings to the benefit of oil pipelines and shippers alike.

²¹ AOPL Comments at 6.

c. Commission Decision

23. The Commission adopts the NOPR proposal to revise section 341.2(a) of its regulations to require an oil pipeline to serve tariff publications and justifications to each shipper and subscriber electronically. To do so, the Commission will revise its regulations to require that service “shall be made in accordance with the requirements of [section] 385.2010” of the Commission's regulations.

24. Contrary to A4A's assertion, section 385.2010 of the Commission's regulations does not only relate to existing proceedings. Rather section 385.2010 applies to both existing and new proceedings, and rulemakings. Section 385.2010 provides that service is not limited to just those on the official service list, but also includes any other person “required to be served under Commission rule or order or under law.”

25. The Commission declines to limit the service reference to subsection 385.2010(f). Section 385.2010 addresses additional service requirements that may apply to an oil pipelines' service obligations. For these reasons, the Commission rejects A4A's and AOPL's recommendation to modify section 341.2(a) to reference 385.2010(f).

3. Index of Effective Tariffs

a. NOPR

26. As part of its efforts to eliminate unnecessary filing requirements, the Commission also proposed changing section 341.9 of its regulations, which specifies the information that an oil pipeline's tariff index must contain and how it must be organized. Section 341.9(a) of the Commission's regulations provides that each Commission-regulated “carrier must publish as a separate tariff publication under its FERC Tariff numbering system, a complete index of all effective tariffs to which it is a party . . . .” ²² Section 341.9(e) further provides that the “index must be kept current by supplements numbered consecutively” that may be issued quarterly. At a minimum, the index must be reissued every four years.²³

²² 18 CFR 341.9(a)(2012).

²³ 18 CFR 341.9(e) (2012).

27. The Commission proposed to eliminate the requirement that each oil pipeline make a tariff filing setting forth an index of all effective tariffs to which it is a party and replace such requirement with an obligation that each oil pipeline post an index of its tariffs on its public Web site(s).²⁴ The Commission also proposed simplifying the information oil pipelines must include by requiring that the index of tariffs identify for each tariff: (1) the product being shipped and (2) the origin and destination points for that product.²⁵ The Commission further proposed that each oil pipeline update the online index of tariffs within ninety (90) days of any change.²⁶ The Commission stated that its proposal would eliminate the need of an oil pipeline to make the quadrennial and intermediate supplemental tariff filings.²⁷ The Commission also reasoned the posting of the index of tariffs on an oil pipeline's public Web site would provide shippers with more current information as the index of tariffs would be able to be updated more frequently under the proposal. Importantly, the Commission also concluded that this proposal would simplify what is required to be contained in the index of tariffs while easing access to this information for current shippers and prospective shippers.²⁸

²⁴ NOPR, FERC Stats. & Regs. ¶ 32,694 at P 9.

²⁵ Id.

²⁶ Id.

²⁷ Id. P 10.

²⁸ Id.

28. Many oil pipelines only have one or two tariffs on file with the Commission. Therefore, the Commission proposed to require only oil pipelines with more than two tariffs to maintain an index of tariffs on their public Web sites.²⁹ The Commission estimated that the proposed changes to the index of tariff requirements will eliminate approximately twenty-two unnecessary filings each year.³⁰ These changes will provide shippers and the public with more timely information and in a more useful manner while reducing the burden of Commission filings.

²⁹ Id. P 11.

³⁰ Id.

b. Comments

29. AOPL does not oppose the proposed revisions to the index of effective tariffs and finds them reasonable.³¹ A4A and Valero propose to revise section 341.9(a)(5) to identify the specific origins and destination for each product or products covered by the tariff.³² They believe such information will eliminate ambiguities regarding the tariffs that cover multiple products with multiple origins and destinations.

³¹ AOPL Comments at 6.

³² A4A Comments at 5 and Valero Comments at 2.

c. Commission Decision

30. The Commission adopts the NOPR proposal, as modified by A4A and Valero, to amend section 341.9 to require only those oil pipelines with more than two tariffs to maintain an index of tariffs on their public Web sites, simplify the information each oil pipelines must include in its index of tariffs and to eliminate the need of an oil pipeline to make the quadrennial and intermediate supplemental tariff filings. The Commission finds that the language suggested by A4A and Valero revising the Commission's proposal regarding section 341.9(a)(5) is reasonable and provides additional clarity.

31. The Commission intends for the Index of Tariffs to be a simple way for interested parties to see what products are carried under a tariff and their origin and destination points. The language as originally proposed left open the possibility that products and points of origin and delivery could be aggregated, which was not the Commission's intent. Identifying the specific origins and destination for each product or products covered by the tariff makes the Commission's intent for the Index of Tariffs clearer. Thus, the Commission will include this provision in the regulations adopted by this final rule.

B. Electronic Updates and Filing Requirements

32. The Commission pointed out in the NOPR that many of the tariff filing and tariff maintenance requirements currently set forth in Part 341 of the Commission's regulations are premised on the maintenance of paper records.³³ Since the implementation of Order No. 714, however, some oil pipeline tariff filings are now obsolete. In light of these changes, the Commission proposed removing the filing requirements for amendments to tariffs provided for under section 341.4 of the Commission's regulations, including the amendment and suspension requirements.

³³ NOPR, FERC Stats. & Regs. ¶ 32,694 at P 12.

1. Tariff Supplements/Amended, Canceled or Reissued Tariff Supplement Data/Cancelling Tariffs

a. NOPR

33. Section 341.4(a)(1) of the Commission's regulations allows an oil pipeline's tariff to be supplemented only once.³⁴ In the NOPR, the Commission concluded that this provision is now outdated because it is practical for oil pipelines to modify electronic tariffs at any time. Accordingly, the Commission proposed to delete section 341.4(a)(1).

³⁴ 18 CFR 341.4(a)(1) (2012) (limiting supplements to “one effective supplement per tariff, except for cancellation, postponement, adoption, correction, and suspension supplements.”).

34. Section 341.4(a)(2) of the Commission's regulations sets forth the requirements for maintenance of oil pipeline tariffs that are amended, canceled, or reissued.³⁵ In Order No. 714, the Commission required oil pipelines to maintain Record Version Numbers for each tariff record.³⁶ The Commission noted that data is now maintained electronically and the provisions set forth in section 341.4(a)(2) are obsolete. Consequently, the Commission proposed to delete section 341.4(a)(2).³⁷

³⁵ 18 CFR 341.4(a)(2) (2012).

³⁶ Record Version Number is the representation of the version of the Tariff Record. See Implementation Guide for Electronic Filing of Parts 35, 154, 284, 300 and 341 Tariff Filings (Implementation Guide) located on the Commission Web site.

³⁷ NOPR, FERC Stats. & Regs. ¶ 32,694 at P 14.

35. The Commission also proposed to consolidate the instructions for cancellation of tariffs into section 341.5 of the Commission's regulations.³⁸ Section 341.4(b) of the Commission's regulations requires oil pipelines to file supplements to an amendment to a tariff “when tariffs are canceled without reissue.” ³⁹ Section 341.5 of the Commission's regulations also details requirements in the event that an oil pipeline's tariff is canceled. Rather than addressing cancelation in two separate regulations, the Commission proposed to consolidate and simplify the requirements relating to oil pipeline tariff cancelations into section 341.5 of the Commission's regulations by detailing that if an oil pipeline tariff is no longer offered, then the oil pipeline must cancel such tariff within thirty days of the termination of the tariff.

³⁸ 18 CFR 341.5 (2012).

³⁹ 18 CFR 341.4(b) (2012). See also 18 CFR 341.3(b)(10)(ii) (2012) (detailing tariff reissuance requirements).

b. Comments

36. AOPL supports the proposed revisions to Part 341 to reflect the electronic tariff filing procedures that have been implemented pursuant to Order No. 714.⁴⁰ A4A also supports the proposed revision but asks the Commission to “ensure that any of the [oil] pipeline's filings or supplements and/or tariff cancellations, are serviced in accordance with section 341.2(a).” ⁴¹

⁴⁰ AOPL Comments at 4.

⁴¹ Id.

c. Commission Decision

37. The Commission adopts the NOPR's proposals as to tariff supplements, amended, canceled, or reissued tariff supplement data, and canceling tariffs. The Commission declines to adopt A4A's request because the Commission's service obligations under proposed 341.2(a) and 385.2010 are self explanatory.

2. Suspension Supplements

a. NOPR

38. The Commission further proposed to eliminate the filing requirements for oil pipeline suspension supplements required by section 341.4(f) of the Commission's regulations. Section 341.4(f) currently provides that a “suspension supplement must be filed for each suspended tariff or suspended part of a tariff within 30 days of the issuance of a suspension order.” ⁴² Section 341.4(f) additionally provides that the suspension supplement must be served on all subscribers.

⁴² 18 CFR 341.4(f) (2012).

39. The suspension supplement tariff record filing was originally premised on the maintenance of paper tariff records and the service of such paper tariff records, which is now obsolete because of the electronic filing requirements of Order No. 714.⁴³ Accordingly, the Commission proposed to eliminate the current filing requirements of section 341.4(f) and to replace them with an obligation for oil pipelines to serve notice of Commission suspension orders on individual oil pipeline subscriber lists. The Commission concluded that this would eliminate the tariff filing for the suspension supplement, as well as subsequent filings an oil pipeline must make to remove a suspension supplement. The Commission estimated that this will eliminate approximately twelve filings each year.

⁴³ NOPR, FERC Stats. & Regs. ¶ 32,694 at P 17.

b. Comments

40. AOPL supports the elimination of suspension supplements, but asks the Commission to “eliminate any requirement” for oil pipelines “to serve suspension orders on individual subscriber lists after a transition period. . . .” ⁴⁴ AOPL notes that shippers may access suspension orders through the Commission's eLibrary and the Commission does not require any other Commission-jurisdictional entities to serve a Commission order on their subscriber lists.⁴⁵

⁴⁴ AOPL Comments at 7.

⁴⁵ Id. at 8.

41. Valero, on the other hand, requests that oil pipelines be required to post suspension supplements on their public Web sites in addition to serving the Commission suspension orders on those included on a subscriber list.⁴⁶

⁴⁶ Valero Comments at 3.

c. Commission Decision

42. The Commission adopts the NOPR proposal to eliminate the filing requirements for oil pipeline suspension supplements required by section 341.4(f) of the Commission's regulations, but declines to adopt the proposal to require oil pipelines to serve notice of Commission suspension orders on individual oil pipeline subscriber lists. However, the Commission will not adopt Valero's request that pipelines post suspension supplements.⁴⁷

⁴⁷ The Commission notes that no change to the regulations is required as the result of this finding. The NOPR did not contain a regulation to implement this proposal.

43. Valero's proposal to create and post a suspension supplement would be duplicative of the requirement for oil pipelines to post suspended tariff records. Under section 341.4(f), a suspension supplement consists of a tariff record that contains the ordering paragraphs of the Commission's suspension order. Since the issuance of Order No. 714, the status of a tariff record is now maintained as part of an electronic tariff, not a paper tariff. Shippers' and interested parties' access to this information is protected because Commission issuances are available on eLibrary and the Federal Register. Further, the Commission serves its issuances on those entities that have intervened in the tariff proceeding and who have eSubscribed to the tariff proceeding.⁴⁸

⁴⁸ The Commission notes that any person, regardless of whether they are a party to the proceeding, a shipper, a subscriber or simply an interested person, may receive an email notification from the Commission with a link to eLibrary of every document filed by the parties or the Commission in a proceeding through the Commission's free eSubscription service. The eSubscription service is located at http://www.ferc.gov/docs-filing/esubscription.asp.

44. With respect to requiring oil pipelines to serve their subscriber lists with Commission issuances, the Commission notes that it does not require regulated entities in any other tariff program to serve Commission issuances on their customers. For these reasons, the Commission will not require oil pipelines to serve their subscriber lists with Commission issuances nor require oil pipelines to post suspension supplements.

3. Amendments to Tariffs

a. NOPR

45. The Commission proposed further revisions to section 341.4 of its regulations to treat all amendments to pending tariffs, whether ministerial or substantive, in the same manner as they are treated for public utilities and natural gas companies.⁴⁹ The Commission's regulations do not allow an oil pipeline to make non-ministerial tariff changes without filing to withdraw any pending proposal and making a new tariff filing. Section 341.4(e) of the Commission's regulations only permits an oil pipeline to file no more than three “correction supplements” to correct “typographical or clerical errors” per tariff.⁵⁰

⁴⁹ NOPR, FERC Stats. & Regs. ¶ 32,694 at P 18.

⁵⁰ 18 CFR 341.1(e) (2012).

46. In the electronic filing environment established by Order No. 714, the Commission no longer sees a reason to limit the number of times an oil pipeline may make corrections to a tariff record. Thus, the Commission proposed to revise section 341.4 of its tariff to treat all amendments to pending tariff records, the same, whether ministerial or substantive to allow an oil pipeline to file to amend or to modify a tariff record at any time during the pendency of any Commission action on such tariff record.⁵¹ In addition, the Commission proposed to create a tariff record amendment process that parallels the existing business process for amending pending statutory tariff filings under its public utility and natural gas programs.⁵² Under these proposals, an oil pipeline will be able to keep its requested effective date from its original tariff record filing, while giving interested parties a full comment period to address any issues relating to a proposed amendment. Pursuant to proposed section 341.4, an amendment to a pending tariff filing will toll the notice period as provided in section 341.2(b) of the Commission's regulations for the original filing, and establish a new date for final Commission action.

⁵¹ NOPR, FERC Stats. & Regs. ¶ 32,694 at P 19.

⁵² 18 CFR 35.17(b) and 18 CFR 154.205(b) (2012) (respectively).

b. Comments

47. A4A supports the proposed changes but seeks a service requirement.⁵³ AOPL supports the proposed revision but requests that the Commission modify the language in proposed section 341.4 to reflect the intent of the NOPR. Specifically, AOPL points out that “while the NOPR explains that, under the proposed regulations, `an oil pipeline will be able to keep its requested effective date from its original tariff record filing,' the proposed language in Section 341.4 provides that filing an amendment or modification to a tariff filing will `establish a new date on which the entire filing will become effective in the absence of Commission action, no earlier than 31 days from the date of the filing of the amendment or modification.' ” ⁵⁴ Accordingly, AOPL requests that the Commission modify the proposed language in section 341.4 to reflect the stated intent in the NOPR.⁵⁵

⁵³ A4A Comments at 4.

⁵⁴ AOPL Comments at 8.

⁵⁵ Id.

c. Commission Decision

48. The Commission adopts the NOPR proposal to modify section 341.4 to treat all amendments to pending tariff records the same, whether ministerial or substantive, to allow an oil pipeline to file to amend or to modify a tariff record at any time during the pendency of the Commission acting on such tariff record, as modified as by AOPL. We believe that the language proposed by AOPL more clearly reflects the Commission's intent in proposing the modification.

4. Adoption

a. NOPR

49. Section 341.6(a) of the Commission's regulations currently provides an oil pipeline must file a tariff and “notify the Commission when there is: (1) [a] change in the legal name of the carrier; (2) [a] transfer of all of the carrier's properties; or (3) [a] change in ownership of only a portion of the carrier's property.” ⁵⁶ This filing must be made no later than thirty days following such occurrence. This filing is commonly known as an “adoption notice.” Sections 341.6(c) and (d) provide the requirements for complete and partial adoptions, respectively. When a carrier changes its legal name, when ownership of all a carrier's properties is transferred, or when the ownership of a portion of a carrier's properties is transferred to another carrier, the adopting carrier “must file and post an adoption notice. . . .” Under either complete or partial adoption, the adopting oil pipeline must make a tariff filing within thirty days following such occurrence to bring such tariffs forward.

⁵⁶ 18 CFR 341.6(a)(1) (2012) (complete adoption); 18 CFR 341.6(c) (2012) (partial adoption).

50. To eliminate unnecessary filings, the Commission proposed consolidating the adoption notice filing and the filing to integrate the tariff records of the adopting carrier. To implement this change, the Commission proposed to model section 341.6 on section 154.603 of the Commission's natural gas regulations. Section 154.603 provides that “[w]henever the tariff . . . of a natural gas company on file with the Commission is to be adopted by another company or person as a result of an acquisition, or merger . . . the succeeding company must file with the Commission, and post within 30 days after such succession, a tariff filing . . . bearing the name of the successor company.” ⁵⁷ The Commission estimated that this proposal will eliminate approximately fifteen Adoption Notice filings each year.⁵⁸

⁵⁷ 18 CFR 154.603 (2012).

⁵⁸ NOPR, FERC Stats. & Regs. ¶ 32,694 at P 21.

b. Comments

51. AOPL seeks clarification that the Commission will modify the proposed language in section 341.6 so that it more clearly includes partial adoptions. In addition, AOPL requests that the Commission clarify that the proposed change in the business process will not change any established practices with regard to the effective date for adoptions.⁵⁹

⁵⁹ AOPL Comments at 9.

52. A4A supports the proposed change to 341.6(a) but asks the Commission to retain sections 341.6(b) through (d).⁶⁰ A4A believes the Commission only meant to replace section § 341.6(a).

⁶⁰ A4A Comments at 5-6.

c. Commission Decision

53. The Commission adopts the NOPR proposal to consolidate the adoption notice filing and the filing to integrate the tariff records of the adopting carrier, with modifications. The Commission agrees with AOPL that the language proposed in the NOPR for amending section 341.6 was unclear with regard to partial adoptions. The Commission has accordingly changed the language to reflect the Commission's intent as stated in the NOPR and as suggested by AOPL.

54. The Commission clarifies that it does not intend for this final rule to change any established practices with regard to the effective date for adoptions.

55. The Commission denies A4A's request, as sections 341.6(b) through (d) are no longer necessary. By removing sections 341.6(b) through (d), the Commission is not eliminating the requirement for oil pipelines to update tariffs to reflect adoptions and/or cancellations. Those requirements have simply been consolidated in new sections 341.5 and 341.6. Section 341.6(b) currently provides the notification requirements for adoptions. This section is no longer necessary, as adoption filings will be served on each shipper and subscriber on the oil pipeline's subscription list as required by section 341.2(a) in the same manner as any other oil pipeline tariff filing.

56. Sections 341.6(c) and (d) provide instructions for version control and the submission of an adoption notice tariff records for complete and partial adoptions. Order No. 714 provides a different required method of version control (the data element Record Version Number), thus the instructions in section 341.6 are outdated and duplicative.⁶¹

⁶¹ Record Version Number is a representation of the version of the tariff record in the format of x.y.z. Each version of the tariff record is required to have a unique Record Version Number, which increments by one with each filing of the tariff record. The Record Version Number must be included as part of the tariff record's meta data, and shown in the tariff text if part of a PDF tariff record. Implementation Guide at pp. 7-9 and 21.

57. As for the adoption notice tariff record, the Commission intends to eliminate this intermediate filing. Oil pipelines should simply file actual tariff records for the services that they are adopting. Therefore, the Commission finds there is no need to retain sections 341.6(b) through (d).

5. Implementation

a. NOPR

58. The Commission did not propose a specific implementation schedule.

59. The NOPR noted that if the Commission ultimately adopted the proposals and made changes to the types of filings discussed in the preceding paragraphs, the Secretary of the Commission will issue a revised list of Type of Filing Codes.⁶²

⁶² See 18 CFR 375.302(z) (2012). The Implementation Guide describes the Type of Filing contents. The Type of Filing Code list is posted on the Commission's Web site at http://www.ferc.gov/docs-filing/etariff/filing_type.csv.

b. Comments

60. AOPL proposes a 90 day implementation period from the date of issuance of the final rule for oil pipelines to set up and post their first set tariffs on their Web sites.

c. Commission Decision

61. The Commission agrees with AOPL that 90 days is a reasonable timeframe to make sure systems and software are in place to post tariffs on a public Web site. The Commission notes that this rule will become final 30 days after publication in the Federal Register. Therefore, the Commission establishes the date for the posting of tariff material on the oil pipelines' Web sites as 90 days after publication of this final rule in the Federal Register.

C. Other Issues—Requests for Additional Changes to Part 341

62. Commenters raise multiple issues related to other aspects of oil pipeline regulation. These issues and requests are beyond the scope of this proceeding which is limited to bringing Part 341 up to date in the electronic age, and is focused on eliminating unnecessary filing requirements.

63. A4A requests that the Commission require oil pipelines to post, if applicable, their grandfathered rate tariffs.⁶³ A4A states that it can be difficult to find records regarding the rates that were grandfathered.

⁶³ Under the Energy Policy Act of 1992, rates that were in effect on October 24, 1992 and not subject to a protest, investigation or complaint in the prior year, were deemed to be “grandfathered.” Energy Policy Act of 1992, Pub. L. 102-486, 106 Stat. 3010 (Oct. 24, 1992).

64. The Commission will not require oil pipelines to post their grandfathered rate tariffs on their Web sites. The Commission finds that such a requirement goes beyond the scope of the instant rulemaking. The proposals set forth in the NOPR were designed solely to bring Part 341 up to date in the electronic age. Currently, Part 341 only requires posting of current, proposed, and suspended tariffs and the Commission does not intend to change the substance of that requirement.⁶⁴

⁶⁴ The Commission notes that all the superseded paper oil pipeline tariffs maintained by the Commission, including the grandfathered tariffs, are available in eLibrary. The Commission posted a guide on how to search eLibrary for these superseded tariffs at http://www.ferc.gov/docs-filing/etariff/oil-ica.pdf. All ICA oil pipeline tariffs that are in effect are in eTariff's electronic format.

65. The NPGA requests the Commission amend section 341.8 to require oil pipelines to disclose and post requirements for handling transmix and the specific rates for transmix.

66. The Commission finds that oil pipelines already are required to disclose requirements for handling transmix and the rates for transmix that is part of a transportation service under section 341.8. Therefore, no modification to section 341.8 ⁶⁵ or the posting requirements of proposed section 341.0(a)(7) is necessary.

⁶⁵ 18 CFR 341.8 (2012) provides:

Terminal and other services.

Carriers must publish in their tariffs rules governing such matters as prorationing of capacity, demurrage, odorization, carrier liability, quality bank, reconsignment, in-transit transfers, storage, loading and unloading, gathering, terminalling, batching, blending, commingling, and connection policy, and all other charges, services, allowances, absorptions and rules which in any way increase or decrease the amount to be paid on any shipment or which increase or decrease the value of service to the shipper. (Emphasis added.)

67. A4A and NPGA request that an oil pipeline be required to post all policies regarding prorationing and inventory, as well as all policies and manuals applicable to transportation of products on the oil pipeline on its Web site in addition to tariffs.

68. Consistent with existing policy, the Commission will not require the oil pipelines to post on their company Web site all policies and manuals applicable to transportation of products. However, if the oil pipeline references the policies and manuals in its tariff, then it must post that information on its Web site. Moreover, this request goes beyond the scope of the NOPR. In addition, A4A's and NPGA's request includes an expansive number of documents that they request be posted on the pipeline's Web site. However, they do not explain the shippers' need for this information or why the Commission's existing tariff content requirements, such as section 341.8, are inadequate.

69. A4A also requests that emails involving notification of a rate or tariff change be clearly marked with the subject “rate or tariff change.” ⁶⁶ On the subject of email, NPGA asks that the Commission require oil pipelines to notify up to three email addressees per company, and to provide links on their Web sites to allow parties to sign up for email updates on filings, and that rate change emails be clearly marked as such.⁶⁷ NPGA and A4A ask the Commission to require oil pipelines to hold pre-filing meetings with shippers and to require oil pipelines to hold regular shipper meetings. Lastly, A4A asks that the Commission revise its regulations regarding faxing protests.⁶⁸

⁶⁶ A4A Comments at 6.

⁶⁷ NPGA Comments at 2.

⁶⁸ A4A Comments at 7.

70. NPGA also suggests that oil pipelines be required to include current rates and the proposed “new” rates in a cover letter when making a tariff change and oil pipelines should provide an explanation and related work papers showing the allocation of costs for the rates and the method used to achieve the allocation.⁶⁹ Finally NPGA also requests the period to file interventions and protests be changed from 15 days to 60 days.

⁶⁹ NPGA Comments at 2.

71. The Commission declines to adopt these suggestions as they address issues that are outside the scope of the proposed NOPR. Nonetheless, the Commission encourages shippers to speak directly with their respective oil pipeline(s) if they wish to have meetings.

72. The Commission also agrees with NPGA that any emails from oil pipelines that include notice of tariff filings should be clearly marked, as this issue goes to the adequacy of service that oil pipelines provide. However, the Commission will not mandate a specific approach.

73. Similarly, the Commission agrees that all oil pipeline tariffs should be fully supported. However, the Commission's regulations already provide that oil pipelines must support their proposals.⁷⁰ The Commission concludes that the existing procedures that permit a filing to be protested on the basis that it was unsupported are adequate. Such protests can lead to the Commission suspending the proposed Tariff and establishing additional procedures, such as a hearing and/or settlement judge, to complete the record.

⁷⁰ See, e.g., 18 CFR 342.3(b), 342.4 and Part 346.

V. Information Collection Statement

74. The Office of Management and Budget (OMB) regulations require approval of certain information collection requirements imposed by agency rules.⁷¹ Upon approval of a collection(s) of information, OMB will assign an OMB control number and an expiration date. Respondents subject to the filing requirements of an agency rule will not be penalized for failing to respond to these collections of information unless the collections of information display a valid OMB control number. The Paperwork Reduction Act (PRA) ⁷² requires each federal agency to seek and obtain OMB approval before undertaking a collection of information directed to ten or more persons or contained in a rule of general applicability.⁷³

⁷¹ 5 CFR part 1320 (2012).

⁷² 44 U.S.C. 3501-3520 (2012).

⁷³ OMB's regulations at 5 CFR 1320.3(c)(4)(i) (2012) require that “Any recordkeeping, reporting, or disclosure requirement contained in a rule of general applicability is deemed to involve ten or more persons.”

75. The Commission is submitting these reporting requirements to OMB for its review and approval under section 3507(d) of the PRA.

76. The Commission's estimate of the change in Public Reporting Burden and cost related to the final rule in Docket RM12-15-000 follow.

77. The revised regulations will eliminate or reduce several filing requirements as obsolete and no longer necessary. The eliminated or reduced filings include the filing of Index of Tariffs, reduced number of adoption filings, eliminated suspension supplements, and reduced number of filings necessary to amend incorrect filings. Based upon a review of the filings made by interstate oil pipelines since eTariff was implemented in April 2010, the Commission estimates a reduction of 99 tariff filings and 1,082 burden hours per year, as shown in the table below.

RM12-15, FERC-550 | Reduction in filings | Est. hours per filing | Total hours | Total cost reduction ⁷⁴
Revised 341.4, Amendments to tariff filings | 50 | 11 | 550 | $30,250
Revised 341.6, Adoption of the tariff by a successor | 15 | 11 | 165 | 9,075
Elimination of 341.4(f) (Suspension Supplements) | 12 | 11 | 132 | 7,260
Revised 341.9, Index of Tariffs | 22 | 11 | 242 | 13,310
Total | 99 |  | 1,089 | 59,895

78. The Commission proposes to revise Part 341's tariff posting requirements for interstate oil pipelines from paper to electronic format. There is no change in burden for the oil pipelines to maintain the status of their tariffs for public inspection, as that requirement is unchanged. The Commission recognizes that there will be a one-time increased burden involved in the initial implementation associated with purchasing software and updating Web sites to post their tariff electronically. We estimate a one-time additional cost of $250 per respondent for non-labor costs. Additionally we estimate a one-time hourly burden of 20 hours per respondent for updating the Web sites for posting of the tariffs.

⁷⁴ The cost figure is based on management analyst work at $38.50 per hour. We adjusted the $38.50 figure to account for benefits resulting in a loaded figure of $55 per hour ($38.5/0.704). We obtained wage and benefit information from Bureau of Labor Statistics information, 2011 data, at http://bls.gov/oes/current/naics2_22.htm and http://www.bls.gov/news.release/ecec.nr0.htm.

RM12-15, FERC-550 | Number of oil pipelines with tariffs | Estimated additional one-time burden per filer (hours) | Total estimated additional one-time burden (hours) | Estimated additional one-time non-labor hours cost per filer ($) | Total estimated one-time hourly burden cost per filer ($)
Revisions to 18 CFR Part 341 | 167 | 20 | 3,340 | $250 | $1,097

Information Collection Costs:

Total additional one-time non-labor hour cost = $41,750 ($250 per respondent).⁷⁵

⁷⁵ The $250 is an aggregate number. Some respondents will incur little to no expense in order to satisfy the proposals in this rulemaking. Posting tariffs on a Web site was already an option under section 341.0(a)(7). Some pipelines already have chosen that option and post their tariffs on their Web sites and/or have software with that functionality.

Savings per year = $468 per respondent.⁷⁶

⁷⁶ Based on an annual reduction of $59,895 divided by 128, the average number of respondents per year. The number of pipelines with tariffs is greater than the number of respondents because not all pipelines with tariffs make tariff filings every year.

Total additional one-time hourly burden cost = $183,199 ($1,097 per respondent).⁷⁷

⁷⁷ The cost figure is based on 5 hours of computer analyst work ($39.02/hour) and 15 hours of management analyst work ($38.50/hour) resulting in a total of $772.60. We adjusted the $772.60 figure to account for benefits resulting in a loaded figure of $1,097 ($772.60/0.704). We obtained wage and benefit information from the Bureau of Labor Statistics, 2011 data (at http://bls.gov/oes/current/naics2_22.htm and at http://www.bls.gov/news.release/ecec.nr0.htm).

Burden hour savings per year after implementation year = 8.4 hours per respondent.

Title: FERC-550, Oil Pipeline: Tariff Filing.

Action: Revisions to the FERC-550.

OMB Control No: 1902-0089.

Respondents: Public and non-public utilities.

Frequency of Responses: Initial implementation and ongoing reduction in burden.

Necessity of the Information: The changes in this final rule increase transparency to both shippers and the public, simplify some filings, reduce the regulatory burden placed on oil pipelines, and modernize Part 341 in accordance with the Commission's electronic systems.

Internal review: The Commission has reviewed the changes and has determined that the changes are necessary. These requirements conform to the Commission's need for efficient information collection, communication, and management within the energy industry. The Commission has assured itself, by means of internal review, that there is specific, objective support for the burden estimates associated with the information collection requirements.

Interested persons may obtain information on the reporting requirements by contacting: Federal Energy Regulatory Commission, 888 First Street NE., Washington, DC 20426 [Attention: Ellen Brown, Office of the Executive Director, email: DataClearance@ferc.gov, Phone: (202) 502-8663, fax: (202) 273-0873]. Comments on the requirements of this rule may also be sent to the Office of Information and Regulatory Affairs, Office of Management and Budget, Washington, DC 20503 [Attention: Desk Officer for the Federal Energy Regulatory Commission]. For security reasons, comments should be sent by email to OMB at oira_submission@omb.eop.gov. Please reference OMB Control No. 1902-0089, FERC-550 and the docket number of this rulemaking in your submission.

VI. Environmental Analysis

79. The Commission is required to prepare an Environmental Assessment or an Environmental Impact Statement for any action that may have a significant adverse effect on the human environment.⁷⁸ The actions taken here fall within categorical exclusions in the Commission's regulations for information gathering, analysis, and dissemination.⁷⁹ Therefore, an environmental assessment is unnecessary and has not been prepared in this rulemaking.

⁷⁸ Regulations Implementing the National Environmental Policy Act, Order No. 486, FERC Stats. & Regs., Regulations Preambles 1986-1990 ¶ 30,783 (1987).

⁷⁹ 18 CFR 380.4(a)(5) (2012).

VII. Regulatory Flexibility Act

80. The Regulatory Flexibility Act of 1980 (RFA) requires agencies to prepare certain statements, descriptions, and analyses of proposed rules that will have a significant economic impact on a substantial number of small entities.⁸⁰ Agencies are not required to make such an analysis if a rule would not have such an effect.

⁸⁰ 5 U.S.C. 601-12 (2012).

81. The Commission does not believe that this final rule will have a significant impact on small entities, nor will it impose upon them any significant costs of compliance. The Commission identified 29 small entities as respondents to the requirements in the final rule.⁸¹ As explained above, the changes to Part 341 of the Commission's regulations will only impose a small burden in the first year ($1,347 per respondent) and will result in net savings for other years ($468 per respondent). The Commission does not estimate that there are any other regulatory burdens associated with this final rule. Thus, the Commission certifies that the final rule does not have a significant economic impact on a substantial number of small entities.

⁸¹ The RFA definition of “small entity” refers to the definition provided in the Small Business Act, which defines a “small business concern” as a business that is independently owned and operated and that is not dominant in its field of operation. 15 U.S.C. 632 (2012). The Small Business Size Standards component of the North American Industry Classification System defines a small oil pipeline company as one with less than 1,500 employees. See 13 CFR Parts 121, 201 (2012).

VIII. Document Availability

82. In addition to publishing the full text of this document in the Federal Register, the Commission provides all interested persons an opportunity to view and/or print the contents of this document via the Internet through FERC's Home Page (http://www.ferc.gov) and in FERC's Public Reference Room during normal business hours (8:30 a.m. to 5:00 p.m. Eastern time) at 888 First Street NE., Room 2A, Washington, DC 20426.

83. From FERC's Home Page on the Internet, this information is available on eLibrary. The full text of this document is available on eLibrary in PDF and Microsoft Word format for viewing, printing, and/or downloading. To access this document in eLibrary, type the docket number excluding the last three digits of this document in the docket number field.

84. User assistance is available for eLibrary and the FERC's Web site during normal business hours from FERC Online Support at (202) 502-6652 (toll free at 1-866-208-3676) or email at ferconlinesupport@ferc.gov, or the Public Reference Room at (202) 502-8371, TTY (202) 502-8659. Email the Public Reference Room at public.referenceroom@ferc.gov.

IX. Effective Date and Congressional Notification

85. These regulations are effective June 28, 2013. The Commission has determined, with the concurrence of the Administrator of the Office of Information and Regulatory Affairs of OMB that this rule is not a “major rule” as defined in section 351 of the Small Business Regulatory Enforcement Fairness Act of 1996.

List of Subjects in 18 CFR Part 341

Pipelines, Reporting and recordkeeping requirements.

By the Commission.
Nathaniel J. Davis, Sr.,
Deputy Secretary.

In consideration of the foregoing, the Commission amends Part 341, Chapter I, Title 18, Code of Federal Regulations, as follows.

PART 341—OIL PIPELINE TARIFFS: OIL PIPELINE COMPANIES SUBJECT TO SECTION 6 OF THE INTERSTATE COMMERCE ACT

1. The authority citation for Part 341 continues to read as follows:

Authority: 42 U.S.C. 7101-7352; 49 U.S.C. 1-27.

2. In § 341.0, paragraph (a)(7) is revised to read as follows:

§ 341.0 Definitions; application.

* * * * *

(a) * * *

(7) Posting or post means making current and proposed and tariffs suspended for more than a nominal period available on a carriers' public Web site.

* * * * *

3. Amend § 341.2 by removing the second sentence and revising the third sentence of paragraph (a)(1) to read as follows:

§ 341.2 Filing requirements.

(a) * * *

(1) * * * Such service shall be made in accordance with the requirements of § 385.2010 of this chapter.

* * * * *

4. Amend § 341.3 by revising paragraph (a) and removing paragraph (c).

The revision reads as follows:

§ 341.3 Form of tariff.

(a) Tariffs may be filed either by dividing the tariff into tariff sections or as an entire document.

* * * * *

5. Section 341.4 is revised to read as follows:

§ 341.4 Amendments of tariff filings.

A carrier may file to amend or modify a tariff contained in a tariff filing at any time during the pendency of the filing. Such filing will toll the notice period as provided in § 341.2(b) for the original filing, and the filing becomes provisionally effective 31 days from the original filing and, in the absence of Commission action, fully effective 31 days from the date of the filing of amendment or modification.

6. Section 341.5 is revised to read as follows:

§ 341.5 Cancellation of tariffs.

Carriers must cancel tariffs when the service or transportation movement is terminated. If the service in connection with the tariff is no longer in interstate commerce, the tariff publication must so state. Carrier must file such cancellations within 30 days of the termination of service.

7. Section 341.6 is revised to read as follows:

§ 341.6 Adoption of tariff by a successor.

Whenever the tariff(s), or a portion thereof, of a carrier on file with the Commission are to be adopted by another carrier as a result of an acquisition, merger, or name change, the succeeding company must file with the Commission, and post within 30 days after such succession, the tariff, or portion thereof, that has been adopted in the electronic format required by § 341.1 bearing the name of the successor company.

8. Section 341.7 is revised to read as follows:

§ 341.7 Concurrences.

Concurrences must be shown in the carrier's tariff and maintained consistent with the requirements of Part 341 of this chapter.

9. Amend § 341.9 by revising the first sentence of paragraph (a), adding paragraph (a)(5), removing paragraphs (b) through (d) and (f), and redesignating paragraph (e) as paragraph (b) and it to read as follows:

§ 341.9 Index of tariffs.

(a) * * * Each carrier with more than two tariffs or concurrences must post on its public Web site a complete index of all effective tariffs to which it is a party, either as an initial, intermediate, or delivering carrier. * * *

* * * * *

(5) Product Shipped and Origin. Each index must identify, for each tariff, the product or products being shipped and the origin and destination points specific to each product or products.

(b) Updates. The index of tariffs must be updated within 90 days of any change to an effective tariff.

§ 341.11 [Amended]

10. In § 341.11(b), remove the second sentence.

§ 341.13 [Amended]

11. In § 341.13(c), remove the second sentence.

[FR Doc. 2013-12140 Filed 5-28-13; 8:45 am]

BILLING CODE 6717-01-P